DEPARTMENT OF JUSTICE

Notice of Lodging of Consent Decree Under the Comprehensive Environmental Response, Compensation and Liability Act

Notice is hereby given that on February 23, 2012, a proposed Consent Decree in United States of America v. Blacksburg Country Club, Inc., Case No. 7:12-cv-00087, D.J. Ref. 90-11-3-09770, was lodged with the United States District Court for the Western District of Virginia.

In this action the United States, acting at the request of the United States Department of the Interior (“DOI”), acting through the Fish and Wildlife Service (“FWS”), alleged claims against the Defendant Blacksburg Country Club, Inc. (“BCC”). These claims were for natural resource damages pursuant to the Comprehensive Environmental Response, Compensation, and Liability Act, as amended, 42 U.S.C. 9601 et seq., with respect to a release of hazardous substances allegedly caused by BCC at its golf course in Blacksburg, Virginia into the North Fork of the Roanoke River. This release, which occurred on or about July 9, 2007, resulted in injury and/or damage to natural resources under the trusteeship of DOI and FWS: Namely, the death of an estimated 169 Roanoke logperch, a federally endangered species. DOI incurred expenses responding to the release and assessing the injury to natural resources that it caused.

Under the proposed consent decree, BCC has obligated itself to implement a Restoration Plan, described at Appendix A of the Consent Decree, consisting of six (6) separate projects to restore reaches of the North Fork of the Roanoke River in the vicinity of the golf course. It has also agreed to pay FWS' natural resource damage assessment costs of $18,964.34, and will pay future travel costs incurred by certain FWS personnel in monitoring implementation of the Restoration Plan.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. Blacksburg Country Club, Inc., Case No. 7:12-cv-00087, D.J. Ref. 90-11-3-09770.

During the public comment period, the Consent Decree may be examined on the following Web site, http://www.usdoj.gov/enrd/Consent_Decrees.html, maintained by the Department of Justice. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $18.75 (@ 25 cents per page reproduction cost) payable to the U.S. Treasury or, if by email or fax, forward a check in that amount to the Consent Decree Library at the stated address.

Robert Brook,
Assistant Chief, Environmental Enforcement Section, Environment and Natural Resources.

Division

[FR Doc. 2012-6912 Filed 3-21-12; 8:45 am]

BILLING CODE 4410-15-P